DEPARTMENT OF HOUSING AND URBAN DEVELOPMENT

[Docket No. FR-4767-N-01]

Notice of Regulatory Waiver Requests Granted for the First Quarter of Calendar Year 2002

AGENCY: Office of the Secretary, HUD.

ACTION: Public Notice of the Granting of Regulatory Waivers from January 1, 2002, through March 31, 2002.

SUMMARY: Section 106 of the Department of Housing and Urban Development Reform Act of 1989 (the HUD Reform Act) requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on January 1, 2002, and ending on March 31, 2002.

FOR FURTHER INFORMATION CONTACT: For general information about this notice, contact Aaron Santa Anna, Assistant General Counsel for Regulations, Room 10276, Department of Housing and Urban Development, 451 Seventh Street, SW., Washington, DC 20410; telephone (202) 708-3055 (this is not a toll-free number). Hearing- or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the HUD Reform Act, the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver-grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from January 1, 2002, through March 31, 2002. This notice also includes a waiver from an earlier reporting period that was inadvertently omitted from the appropriate earlier report. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the granting of a particular waiver request, the action is listed under the section number of the first regulatory requirement that appears in title 24 of the Code of Federal Regulations and that is being waived as part of the waiver-grant action. For example, a waiver of both § 58.73 and § 58.74 would appear sequentially in the listing under § 58.73.

Waiver-grant actions involving the same initial regulatory citation are in time sequence beginning with the earliest-dated waiver-grant action.

Should HUD receive additional reports of waiver actions taken during the period covered by this report before the next report is published, the next updated report will include these earlier actions, as well as those that occurred during April 1, 2002, through June 30, 2002.

Accordingly, information about approved waiver requests pertaining to HUD regulations is provided in the Appendix that follows this notice.

Dated: August 16, 2002.
Alphonso Jackson,
Deputy Secretary.

Appendix—Listing of Waivers of Regulatory Requirements Granted by Offices of the Department of Housing and Urban Development January 1, 2002 Through March 31, 2002

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Healthy Homes and Lead Hazard Control.

III. Regulatory waivers granted by the Office of Housing.

IV. Regulatory waivers granted by the Office of Multifamily Housing Assistance Restructuring.

V. Regulatory waivers granted by the Office of Public and Indian Housing.

I. Regulatory Waivers Granted by the Office of Community Planning and Development

For further information about the following waiver actions, please see the name of the contact person immediately following the description of the waiver granted.

• Regulation: 24 CFR 91.520(a).

Project/Activity: The City of Edmond, Oklahoma, requested a waiver of the submission deadline for the city's 2000 program year Consolidated Annual Performance and Evaluation Report (CAPER).

Nature of Requirement: Section 91.520(a) requires each grantee to submit a performance report to HUD within 90 days after the close of the grantee's program year.

Granted By: Roy A. Bernardi, Assistant Secretary for Community Planning and Development.

Date Granted: January 17, 2002.

Reasons Waived: The staff person responsible for CAPER preparation was unable to prepare the report due to a family emergency. The city does not have staff that can prepare the report during the absence of the key person. While HUD is desirous of a timely report, the Department is also interested in ensuring that the performance report is complete and accurate. The city received an extension to March 29, 2002, to submit its 2000 CAPER to HUD.

Contact: Cornelia Robertson-Terry, Office of Community Planning and Development, Room 7152, Department of Housing and Urban Development, 451 Seventh Street, SW., Washington, DC 20410; telephone: (202) 708-2565, extension 4556.

• Regulation: 24 CFR 582.105(e).

Project/Activity: Milwaukee County, Wisconsin, requested a waiver of 8 percent administrative cap for its 1996 Shelter Plus Care grant.

Nature of Requirement: Section 582.105(e) allows grantees to expend 8 percent of its Shelter Plus Care grant funds for administrative fees.

Granted By: Roy A. Bernardi, Assistant Secretary for Community Planning and Development.

Date Granted: February 15, 2002.

Reasons Waived: Milwaukee County requested the waiver to extend the term of its Shelter Plus Care grant by five years. This requires additional funds to administer the grant. Milwaukee County is requesting an additional 1.6 percent per year for the extension. This will allow Milwaukee County to serve more than the 24 households originally targeted in its application. This added workload along with the added term of the grant supports a waiver of the current 8 percent limitation on administrative fees.

Contact: Cornelia Robertson-Terry, Office of Community Planning and Development, Room 7152, Department of Housing and Urban Development, 451 Seventh Street, SW., Washington, DC 20410; telephone: (202) 708-2565, extension 4556.

• Regulation: 24 CFR 570.511.

Project/Activity: The City of Columbus, Ohio, requested a waiver of the regulations at 24 CFR 570.511(a)(4) and 570.511(b) in order to utilize Community Development Block Grant (CDBG) funds with the Federal Housing Administration's Section 203(k) program while complying with rules and regulations applicable to lead-based paint hazard control.

Nature of Requirement: Section 570.511(a)(4) provides that a recipient may withdraw funds from its letter of credit for immediate deposit into an escrow account for use in funding loans and grants for the rehabilitation of privately owned residential properties. The amount of funds deposited into an escrow account shall be limited to the amount expected to be disbursed within 10 working days after the deposit. If the escrow account, for whatever reason, at any time contains funds exceeding 10 days cash needs, the grantee immediately shall transfer the excess funds to its program account.

Section 570.511(b) provides that interest earned on escrow accounts established in accordance with this section shall be remitted to HUD at least quarterly, but not more frequently than monthly, less any service charges for the account. Section 570.511(a)(2) provides that the contract between the property owner and the contractor shall specifically provide that payment to the contractor shall be made through an escrow account maintained by the recipient, a subrecipient as defined at 24 CFR 570.500 (c), by a public agency designated under § 570.501(a), or by an agent under a procurement contract governed by 24 CFR 85.36. Section 570.511(a)(3) requires that all funds drawn under this section shall be deposited into one interest earning account.

Granted By: Roy A. Bernardi, Assistant Secretary for Community Planning and Development.

Date Granted: March 5, 2002.

Reasons Waived: Four waivers were granted in order for the city to use CDBG funds with Section 203(k) program funds. There is good cause for these waivers since the city's proposal combines the resources of two HUD programs into one that will promote homeownership and address lead-based paint hazards in homes purchased by low- and moderate-income households. Section 570.511(a)(4) is waived to allow CDBG funds to be placed in an escrow account for 90 days. Section 570.511(B) will allow the interest earned on CDBG funds in the escrow account to be treated the same as the interest earned on the Section 203(k) program funds and be applied to the mortgagor's principal balance. Section 570.511(a)(3) will allow the city to establish several individual escrow accounts rather than one escrow account. Section 570.511(a)(2) will allow CDBG funds to be awarded to the Section 203(k) lenders since they do not meet the definition of a public agency.

Contact: Cornelia Robertson-Terry, Office of Community Planning and Development, Room 7152, Department of Housing and Urban Development, 451 Seventh Street, SW., Washington, DC 20410; telephone: (202) 708-2565, extension 4556.

II. Regulatory Waivers Granted by the Office of Healthy Homes and Lead Hazard Control

For further information about the following waiver actions, please see the name of the contact person who immediately follows the description of the waiver granted.

• Regulation: 24 CFR 35.100-1355.

Project/Activity: Compliance with the Lead Safe Housing Rule in Ohio (granted to the Ohio State Department of Development).

Nature of Requirement: The regulation requires compliance with the Lead Safe Housing Rule by May 31, 2002.

Granted By: Alphonso Jackson, Deputy Secretary.

Date Granted: February 12, 2002.

Reason Waived: The waiver allows the necessary time to train additional workers who will be working on rehabilitation that may disturb lead-based paint (thereby creating lead hazards).

Contact: David E. Jacobs, Director, Office of Healthy Housing and Lead Hazard Control, Department of Housing and Urban Development, Room P3206, L'Enfant Plaza, Washington, DC 20410; telephone: (202) 755-4973.

III. Regulatory Waivers Granted by the Office of Housing

For further information about the following waiver actions, please see the name of the contact person who immediately follows the description of the waiver granted.

• Regulation: 24 CFR 200.54(a).

Project/Activity: Hearts United III, Chicago, IL; Project Number: 071-32137.

Nature of Requirement: Section 200.54(a) permits a pro-rata disbursement of the mortgagor's front money escrow funds and FHA insured mortgage proceeds for the subject property.

Granted By: John C. Weicher, Assistant Secretary for Housing-Federal Housing Commissioner.

Date Granted: March 28, 2002.

Reason Waived: Since the front money escrow is so large, the insured proceeds would not be disbursed for 6 to 8 months after initial endorsement, resulting in payment of extension fees to the investors who purchased the Government National Mortgage Association (GNMA) mortgage-backed securities. Providing a waiver of 24 CFR 200.54(a) will permit the Chicago Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Curtis Park Hope VI (Phase II), Denver, CO; Project No. 101-35544.

Nature of Requirement: Section 200.54(a) permits a pro-rata disbursement of the mortgagor's front money escrow funds and FHA insured mortgage proceeds for the subject project.

Granted By: John C. Weicher, Assistant Secretary for Housing-Federal Housing Commissioner.

Date Granted: March 29, 2002.

Reason Waived: Since the front money escrow is so large, the insured proceeds would not be disbursed for several months, resulting in the payment of extension fees to the investors who purchased the GNMA mortgage-backed securities. Providing a waiver of 24 CFR 200.54 (a) will permit the Denver Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 202.3(c)(2)(iii).

Project/Activity: Credit Watch/Termination Threshold—Washington, DC.

Nature of Requirement: Section 202.23(c)(2)(iii) establishes the threshold for placing a HUD-approved lender on credit watch status when its default and claim rate exceeds the field office defaults and claim rate.

Granted By: John C. Weicher, Assistant Secretary for Housing-Federal Housing Commissioner.

Date Granted: February 20, 2002.

Reason Waived: Waiving the regulation permits the Department to focus on those lenders who originated the worst performing loans. The waiver will adjust the credit watch threshold from 150% to 200.9% of the HUD field office default and claim rate to 200% and 300.9% of that rate. This waiver is limited to credit watch reviews conducted in the first quarter of calendar year 2002.

Contact: Joy L. Hadley, Director, Quality Assurance Division, Department of Housing and Urban Development, 451 Seventh Street, SW., Room B133-P3214, Washington, DC 20410-7000; telephone: (202) 708-2830.

• Regulation: 24 CFR 891.100(d).

Project/Activity: Northwest Housing Initiatives, Jacksonville, FL; Project Number: 063-HD013/FL29-Q981-010.

Nature of Requirement: Section 891.100(d) prohibits amendment of the amount of approved capital advance funds prior to initial closing.

Granted By: John C. Weicher, Assistant Secretary for Housing-Federal Housing Commissioner.

Date Granted: January 4, 2002.

Reason Waived: Additional funds were needed to cover site lighting and increased construction costs. The project is economically designed and comparable to other projects developed in the area.

Contact: Frank Tolliver, Office of Housing Assistance and Grant Administration, Department of Housing and Urban Development, 451 Seventh Street, SW., Washington, DC 20410; telephone: (202) 708-3000, extension 3821.

• Regulation: 24 CFR 891.100(d).

Project/Activity: Mt. Zion Apartments Phase II, St. Louis, MO; Project Number: 085-EE050/MO36-S001-003.

Nature of Requirement: Section 891.100(d) prohibits amendment of the amount of approved capital advance funds prior to initial closing.

Granted By: John C. Weicher, Assistant Secretary for Housing-Federal Housing Commissioner.

Date Granted: January 4, 2002.

Reason Waived: The sponsor exhausted all efforts to obtain additional funding from other sources. The project is economically designed and comparable to other similar projects developed in the area.

Contact: Frank Tolliver, Office of Housing Assistance and Grant Administration, Department of Housing and Urban Development, 451 Seventh Street, SW., Washington, DC 20410; telephone: (202) 708-3000, extension 3821.

• Regulation: 24 CFR 891.100(d).

Project/Activity: Pilgrim Heights, Omaha, NE; Project Number: 103-EE023/NE26-S001-002.

Nature of Requirement: Section 891.100(d) prohibits amendment of the amount of approved capital advance funds prior to initial closing.

Granted By: John C. Weicher, Assistant Secretary for Housing-Federal Housing Commissioner.

Date Granted: January 4, 2002.

Reason Waived: The sponsor exhausted all efforts to obtain additional funding from other sources. The project is comparable to other similar projects developed in the area and is economically designed.

Contact: Faye Norman, Office of Housing Assistance and Grant Administration, Department of Housing and Urban Development, 451 Seventh Street, SW., Washington, DC 20410; telephone: (202) 708-3000, extension 2482.

• Regulation: 24 CFR 891.100(d).

Project/Activity: Lake Winds Apartments, St. Petersburg, FL; Project Number: 067-HD081/FL29-Q001-006.

Nature of Requirement: Section 891.100(d) prohibits amendment of the amount of approved capital advance funds prior to initial closing.

Granted By: John C. Weicher, Assistant Secretary for Housing-Federal Housing Commissioner.

Date Granted: January 28, 2002.

Reason Waived: The project is economically designed, comparable to other similar projects developed in the area, and the owner has obtained additional funding from other sources for the purchase of the land.

Contact: Alicia Anderson, Office of Housing Assistance and Grant Administration, Department of Housing and Urban Development, 451 Seventh Street, SW., Washington, DC 20410; telephone: (202) 708-3000, extension 5787.

• Regulation: 24 CFR 891.100(d).

Project/Activity: Holston Hills Apartments, Rogersville, TN; Project Number: 087-EE041/TN37-S001-001.

Nature of Requirement: Section 891.100(d) prohibits amendment of the amount of approved capital advance funds prior to initial closing.

Granted By: John C. Weicher, Assistant Secretary for Housing-Federal Housing Commissioner.

Date Granted: February 26, 2002.

Reason Waived: Delays by the original sponsor, the requirement to use Davis-Bacon wage rates, and the limited availability of contractors to build the project have attributed to higher construction costs.

Contact: Frank Tolliver, Office of Housing Assistance and Grant Administration, Department of Housing and Urban Development, 451 Seventh Street, SW., Washington, DC 20410; telephone: (202) 708-3000, extension 3821.

• Regulation: 24 CFR 891.100(d).

Project/Activity: Pejepscot Terrace, Brunswick, ME; Project Number: 043-EE068/OH16-S991-004.

Nature of Requirement: Section 891.100(d) prohibits amendment of the amount of approved capital advance funds prior to initial closing.

Granted By: John C. Weicher, Assistant Secretary for Housing-Federal Housing Commissioner.

Date Granted: February 26, 2002.

Reason Waived: The sponsor/owner secured additional funding. The project is comparable to other similar projects developed in the area, and is economically designed.

Contact: Rita Ross, Office of Housing Assistance and Grant Administration, Department of Housing and Urban Development, 451 Seventh Street, SW., Washington, DC 20410; telephone: (202) 708-3000, extension 2696.

• Regulation: 24 CFR 891.100(d).

Project/Activity: Inverness Homes, Inverness, MS; Project Number: 065-HD021/MS26-Q991-001.

Nature of Requirement: Section 891.100(d) prohibits amendment of the amount of approved capital advance funds prior to initial closing.

Granted By: John C. Weicher, Assistant Secretary for Housing-Federal Housing Commissioner.

Date Granted: February 26, 2002.

Reason Waived: Additional funds are needed to cover the cost of extensive cut and fill preparation due to poor soil conditions and to comply with the accessibility requirements for projects for persons with physical disabilities.

Contact: Brenda Butler, Office of Housing Assistance and Grant Administration, Department of Housing and Urban Development, 451 Seventh Street, SW., Washington, DC 20410; telephone: (202) 708-3000, extension 6788.

• Regulation: 24 CFR 891.100(d).

Project/Activity: Holiday Drive Place, Kansas City, MO; Project Number: 084-HD034/MO16-Q001-002.

Nature of Requirement: Section 891.100(d) prohibits amendment of the amount of approved capital advance funds prior to initial closing.

Granted By: John C. Weicher, Assistant Secretary for Housing-Federal Housing Commissioner.

Date Granted: February 26, 2002.

Reason Waived: Increased construction activities in the area have resulted in contractors paying premium prices for materials and labor subsequently increasing the cost of the project. The sponsor has exhausted all efforts to find additional funds from outside sources.

Contact: Alicia Anderson, Office of Housing Assistance and Grant Administration, Department of Housing and Urban Development, 451 Seventh Street, SW., Washington, DC 20410; telephone: (202) 708-3000, extension 5787.

• Regulation: 24 CFR 891.100(d).

Project/Activity: Good Samaritan Hospital of Maryland, Baltimore, MD; Project Number: 052-EE037/MD06-S001-003.

Nature of Requirement: Section 891.100(d) prohibits amendment of the amount of approved capital advance funds prior to initial closing.

Granted By: John C. Weicher, Assistant Secretary for Housing-Federal Housing Commissioner.

Date Granted: February 28, 2002.

Reason Waived: The project is economically designed, comparable to other projects in the area, and the sponsor exhausted all efforts to obtain additional funding from other sources.

Contact: Evelyn Berry, Office of Housing Assistance and Grant Administration, Department of Housing and Urban Development, 451 Seventh Street, SW., Washington, DC 20410; telephone: (202) 708-3000, extension 2483.

• Regulation: 24 CFR 891.100(d).

Project/Activity: Woodbourne Woods, Baltimore, MD; Project Number: 052-EE037/MD06-S001-003.

Nature of Requirement: Section 891.100(d) prohibits amendment of the amount of approved capital advance funds prior to initial closing.

Granted By: John C. Weicher, Assistant Secretary for Housing-Federal Housing Commissioner.

Date Granted: February 28, 2002.

Reason Waived: The project is economically designed, comparable to other similar projects in the area, and the sponsor has exhausted all efforts to obtain additional funding.

Contact: Evelyn Berry, Office of Housing Assistance and Grant Administration, Department of Housing and Urban Development, 451 Seventh Street, SW., Washington, DC 20410; telephone: (202) 708-3000, extension 2483.

• Regulation: 24 CFR 891.100(d).

Project/Activity: Floyd-Kress Homes, Frederick, MD; Project Number: 052-HD043/MD06-Q001-003.

Nature of Requirement: Section 891.100(d) prohibits amendment of the amount of approved capital advance funds prior to initial closing.

Granted By: John C. Weicher, Assistant Secretary for Housing-Federal Housing Commissioner.

Date Granted: February 28, 2002.

Reason Waived: The sponsor exhausted all efforts to obtain additional funding from other sources. The project is comparable to other similar projects developed in the area and is economically designed.

Contact: Frank Tolliver, Office of Housing Assistance and Grant Administration, Department of Housing and Urban Development, 451 Seventh Street, SW., Washington, DC 20410; telephone: (202) 708-3000, extension 3821.

• Regulation: 24 CFR 891.100(d).

Project/Activity: Greater St. Stephen Manor, New Orleans, LA; Project Number: 061-EE093/GA06-S001-001.

Nature of Requirement: Section 891.100(d) prohibits amendment of the amount of approved capital advance funds prior to initial closing.

Granted By: John C. Weicher, Assistant Secretary for Housing-Federal Housing Commissioner.

Date Granted: March 4, 2002.

Reason Waived: The project is comparable to other similar projects developed in the area and is economically designed. The sponsor has exhausted all efforts to obtain additional funding.

Contact: Frank Tolliver, Office of Housing Assistance and Grant Administration, Department of Housing and Urban Development, 451 Seventh Street, SW., Washington, DC 20410; telephone: (202) 708-3000, extension 3821.

• Regulation: 24 CFR 891.100(d).

Project/Activity: Greenview Apartments, Cheyenne, WY; Project Number: 109-HD011/WY99-Q991-001.

Nature of Requirement: Section 891.100(d) prohibits amendment of the amount of approved capital advance funds prior to initial closing.

Granted By: John C. Weicher, Assistant Secretary for Housing-Federal Housing Commissioner.

Date Granted: March 5, 2002.

Reason Waived: Higher construction costs have substantially increased the cost of the project. The project is economically designed and the sponsor has exhausted all efforts to obtain additional funds from other sources.

Contact: Frank Tolliver, Office of Housing Assistance and Grant Administration, Department of Housing and Urban Development, 451 Seventh Street, SW., Washington, DC 20410; telephone: (202) 708-3000, extension 3821.

• Regulation: 24 CFR 891.100(d).

Project/Activity: Great Falls Elder Housing, Great Falls, MT; Project Number: 012-EE266/NY36-S991-006.

Nature of Requirement: Section 891.100(d) prohibits amendment of the amount of approved capital advance funds prior to initial closing.

Granted By: John C. Weicher, Assistant Secretary for Housing-Federal Housing Commissioner.

Date Granted: March 5, 2002.

Reason Waived: The sponsor exhausted all efforts to obtain additional funding from other sources. The project is economically designed and comparable to other similar projects developed in the area.

Contact: Frank Tolliver, Office of Housing Assistance and Grant Administration, Department of Housing and Urban Development, 451 Seventh Street, SW., Washington, DC 20410; telephone: (202) 708-3000, extension 3821.

• Regulation: 24 CFR 891.100(d).

Project/Activity: PARC Place, Peoria, IL; Project Number: 072-HD112/IL06-Q001-003.

Nature of Requirement: Section 891.100(d) prohibits amendment of the amount of approved capital advance funds prior to initial closing.

Granted By: John C. Weicher, Assistant Secretary for Housing-Federal Housing Commissioner.

Date Granted: March 8, 2002.

Reason Waived: The project is economically designed, comparable to other similar projects developed in the area, and the sponsor/owner has exhausted all efforts to secure additional funds from other sources.

Contact: Rita Ross, Office of Housing Assistance and Grant Administration, Department of Housing and Urban Development, 451 Seventh Street, SW., Washington, DC 20410; telephone: (202) 708-3000, extension 2696.

• Regulation: 24 CFR 891.100(d).

Project/Activity: Our Savior's Manor, Westland, MI; Project Number: 044-EE071/MI28-S000-004.

Nature of Requirement: Section 891.100(d) prohibits amendment of the amount of approved capital advance funds prior to initial closing.

Granted By: John C. Weicher, Assistant Secretary for Housing-Federal Housing Commissioner.

Date Granted: March 8, 2002.

Reason Waived: In a previous memorandum, amendment funds in the amount of $897,200 were requested but included the minimum capital investment of $10,000 as a part of the additional funds being provided by the sponsor to the project. HUD approved only $887,200 resulting in a $10,000 shortfall. Based on the fact that the $10,000 was included in error as a part of the sponsor's contribution of additional funds, the waiver was granted for the additional $10,000.

Contact: Rita Ross, Office of Housing Assistance and Grant Administration, Department of Housing and Urban Development, 451 Seventh Street, SW., Washington, DC 20410; telephone: (202) 708-3000, extension 2696.

• Regulation: 24 CFR 891.100(d).

Project/Activity: Northport Apartments, North Sioux City, SD; Project Number: 091-EE004/SD99-S001-001.

Nature of Requirement: Section 891.100(d) prohibits amendment of the amount of approved capital advance funds prior to initial closing.

Granted By: John C. Weicher, Assistant Secretary for Housing-Federal Housing Commissioner.

Date Granted: March 21, 2002.

Reason Waived: The project is economically designed, comparable to other similar projects developed in the area, and the sponsor/owner secured a $200,000 grant from the Federal Home Loan Bank.

Contact: Rita Ross, Office of Housing Assistance and Grant Administration, Department of Housing and Urban Development, 451 Seventh Street, SW., Washington, DC 20410; telephone: (202) 708-3000, extension 2696.

• Regulation: 24 CFR 891.100(d) and 24 CFR 891.165.

Project/Activity: Developmental Pathways, Incorporated, Aurora, CO; Project Number: 101-HD025/CO99-Q991-002.

Nature of Requirement: Section CFR 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: January 30, 2002.

Reason Waived: The project is economically designed and comparable to other projects developed in the area. The sponsor has exhausted all efforts to obtain funding from other sources other than the $150,000 it is receiving from the Colorado Division of Housing. Also, additional time is necessary to issue the firm commitment and arrange for the initial closing.

Contact: Gail Williamson, Office of Housing Assistance and Grant Administration, Department of Housing and Urban Development, 451 Seventh Street, SW., Washington, DC 20410; telephone: (202) 708-3000, extension 2473.

• Regulation: 24 CFR 891.100(d) and 24 CFR 891.165.

Project/Activity: ARC MU 11, Tinton Falls, NJ; Project Number: 031-HD079/NJ39-Q971-002.

Nature of Requirement: Section CFR 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: January 30, 2002.

Reason Waived: A significant portion of the delay in processing the Firm Commitment was due to the loss of staff and other priorities and it took 8 months to find another contractor after the first one withdrew from the project. Amendment funds were needed because the new contractor's costs were higher due to an increase in the Davis-Bacon wage rates. The project is economically and modestly designed, comparable to similar projects developed in the area, and the owner has no additional funds to cover the shortfall of funds required to close the project.

Contact: Rita Ross, Office of Housing Assistance and Grant Administration, Department of Housing and Urban Development, 451 Seventh Street, SW., Washington, DC 20410; telephone: (202) 708-3000, extension 2696.

• Regulation: 24 CFR 891.100(d) and 24 CFR 891.165.

Project/Activity: Pontiac Volunteers of America Elderly Housing, Inc., Pontiac, MI; Project Number: 044-EE067/MI28-S991-001.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: February 14, 2002.

Reason Waived: The project is economically designed and comparable to other similar projects developed in the jurisdiction but additional costs were incurred due to the dramatic rise in construction costs in Southeast Michigan. The sponsor has exhausted all efforts to obtain additional funding from other sources. Additionally, the project was delayed due to the need for the owner to locate another site.

Contact: Evelyn Berry, Office of Housing Assistance and Grant Administration, Department of Housing and Urban Development, 451 Seventh Street, SW., Washington, DC 20410; telephone: (202) 708-3000, extension 2483.

• Regulation: 24 CFR 891.100(d) and 24 CFR 891.165.

Project/Activity: Belfast Volunteers of America (VOA) Elderly Housing, Belfast, ME, Project Number: 024-EE042/ME36-S981-001.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: February 19, 2002.

Reason Waived: The project is economically designed, is comparable to other similar projects developed in the jurisdiction, and the sponsor has exhausted all efforts to obtain additional funding from other sources. Also, the owner incurred delays in an effort to locate additional funds to cover construction costs and the construction start will be delayed until spring due to harsh winter conditions.

Contact: Brenda Butler, Office of Housing Assistance and Grant Administration, Department of Housing and Urban Development, 451 Seventh Street, SW., Washington, DC 20410; telephone: (202) 708-3000, extension 6788.

• Regulation: 24 CFR 891.100(d) and 24 CFR 891.165.

Project/Activity: The Salvation Army Lake View Terrace Silverlake Residence, Los Angeles, CA; Project Number: 122-EE159/CA16-S991-010.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: March 23, 2002.

Reason Waived: The project is economically designed and comparable to other similar projects developed in the jurisdiction. The sponsor has exhausted all efforts to obtain additional funding from other sources, and the requested increase is due, in part, to rising construction costs and extraordinary high fees imposed by the city. Also, the project incurred significant delays associated with the lengthy application process required for an amendment to the general plan for the project, zoning change and building line adjustment and variance.

Contact: Evelyn Berry, Office of Housing Assistance and Grant Administration, Department of Housing and Urban Development, 451 Seventh Street, SW., Washington, DC 20410; telephone: (202) 708-3000, extension 2483.

• Regulation: 24 CFR 891.165.

Project/Activity: Palms Manor, Los Angeles, CA; Project Number: 122-HD113/CA16-Q981-005P.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 1, 2002.

Reason Waived: The sponsor needed to acquire additional funds to purchase the site and for the architect to correct an error to the architectural drawings.

Contact: Brenda Butler, Office of Housing Assistance and Grant Administration, Department of Housing and Urban Development, 451 Seventh Street, SW., Washington, DC 20410; telephone: (202) 708-3000, extension 6788.

• Regulation: 24 CFR 891.165.

Project/Activity: Pathways, Greenwich, CT; Project Number: 017-HD022-/CT26-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 27, 2002.

Reason Waived: Project is being challenged by an adjacent neighborhood group and is currently tied up in court.

Contact: Monique S. Love, Office of Housing Assistance and Grant Administration, Department of Housing and Urban Development, 451 Seventh Street, SW., Washington, DC 20410; telephone: (202) 708-3000, extension 2475.

• Regulation: 24 CFR 891.165.

Project/Activity: Presbyterian Home at Stafford, Stafford Township, NJ; Project Number: 035-EE037-/NJ39-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 28, 2002.

Reason Waived: The sponsor experienced delays due to difficulty in finding an architect and slow responses from contractors who were submitting bids for the project.

Contact: Alicia Anderson, Office of Housing Assistance and Grant Administration, Department of Housing and Urban Development, 451 Seventh Street, SW., Washington, DC 20410; telephone: (202) 708-3000, extension 5787.

• Regulation: 24 CFR 891.165.

Project/Activity: TWB Residential Opportunities II, Suffolk County, NY; Project Number: 012-HD093-/NY36-Q991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 28, 2002.

Reason Waived: The owner is experiencing difficulty in obtaining a building permit for one of the sites.

Contact: Faye Norman, Office of Housing Assistance and Grant Administration, Department of Housing and Urban Development, 451 Seventh Street, SW., Washington, DC 20410; telephone: (202) 708-3000, extension 2482.

• Regulation: 24 CFR 891.165.

Project/Activity: Project Live XI, East Orange, NJ, Project Number: 031-HD098-/NJ39-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 28, 2002.

Reason Waived: The sponsor experienced delays due to the additional requirements in securing secondary financing and selecting a suitable general contractor.

Contact: Alicia Anderson, Office of Housing Assistance and Grant Administration, Department of Housing and Urban Development, 451 Seventh Street, SW., Washington, DC 20410; telephone: (202) 708-3000, extension 5787.

• Regulation: 24 CFR 891.165.

Project/Activity: Evergreen Village Senior Apartments, Everett, WA; Project Number: 127-EE024/WA19-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 28, 2002.

Reason Waived: The project has been delayed due to a change in the county's planned residential development regulations that required the owner to address additional planning issues.

Contact: Alicia Anderson, Office of Housing Assistance and Grant Administration, Department of Housing and Urban Development, 451 Seventh Street, SW., Washington, DC 20410; telephone: (202) 708-3000, extension 5787.

• Regulation: 24 CFR 891.165.

Project/Activity: Visalia Senior Housing, Visalia, CA; Project Number: 121-EE127/CA39-S991-006.

Nature Of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 8, 2002.

Reason Waived: A major project redesign was needed to reduce project costs.

Contact: Sennai Cham, Office of Housing Assistance and Grant Administration, Department of Housing and Urban Development, 451 Seventh Street, SW., Washington, DC 20410; telephone: (202) 708-3000, extension 2610.

• Regulation: 24 CFR 891.165.

Project/Activity: Greater Community Housing, Louisville, KY; Project Number: 083-HD056/KY36-Q991-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 8, 2002.

Reason Waived: The sponsor had difficulty obtaining an acceptable appraisal and experienced difficulty locating a contractor who would work in the area.

Contact: Rita Ross, Office of Housing Assistance and Grant Administration, Department of Housing and Urban Development, 451 Seventh Street, SW., Washington, DC 20410; telephone: (202) 708-3000, extension 2696.

• Regulation: 24 CFR 891.165.

Project/Activity: Ada S. McKinley IV, Chicago, IL; Project Number: 071-HD110/IL06-Q981-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 8, 2002.

Reason Waived: A new site had to be located since the proximity of the two sites did not meet the requirements of the State.

Contact: Rita Ross, Office of Housing Assistance and Grant Administration, Department of Housing and Urban Development, 451 Seventh Street, SW., Washington, DC 20410; telephone: (202) 708-3000, extension 2696.

• Regulation: 24 CFR 891.165.

Project/Activity: Kiva Apartments, Tucson, AZ; Project Number: 123-HD026/AZ20-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 11, 2002.

Reason Waived: The project experienced delays in securing approval of the drawings for repairs to meet Americans with Disabilities Act guidelines, securing an appropriate asbestos abatement plan, and the loss of the sponsor's first project manager.

Contact: Sennai Cham, Office of Housing Assistance and Grant Administration, Department of Housing and Urban Development, 451 Seventh Street, SW., Washington, DC 20410; telephone: (202) 708-3000, extension 2610.

• Regulation: 24 CFR 891.165.

Project/Activity: Advance Supportive Housing Project, Bergen County, NJ; Project Number: 031-HD101/NJ39-Q991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 11, 2002.

Reason Waived: The project incurred delays due to the need to substitute a new unit for one of the original scattered sites and secure a qualified contractor.

Contact: Brenda Butler, Office of Housing Assistance and Grant Administration, Department of Housing and Urban Development, 451 Seventh Street, SW., Washington, DC 20410; telephone: (202) 708-3000, extension 6788.

• Regulation: 24 CFR 891.165.

Project/Activity: Haiku Group Home, Kaneohe, HI; Project Number: 140-HD020/HI10-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 21, 2002.

Reason Waived: The contractor selected for the project filed bankruptcy and the owners had to search for a new contractor.

Contact: Sennai Cham, Office of Housing Assistance and Grant Administration, Department of Housing and Urban Development, 451 Seventh Street, SW., Washington, DC 20410; telephone: (202) 708-3000, extension 2610.

• Regulation: 24 CFR 891.165.

Project/Activity: St. Paul Elder Housing Development, St. Paul, MN; Project Number: 092-EE060/MN46-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 21, 2002.

Reason Waived: Due to poor soil conditions at the site, delays occurred while a cost effective foundation system for the building was developed.

Contact: Sennai Cham, Office of Housing Assistance and Grant Administration, Department of Housing and Urban Development, 451 Seventh Street, SW., Washington, DC 20410; telephone: (202) 708-3000, extension 2610.

• Regulation: 24 CFR 891.165.

Project/Activity: Hayworth Housing, Los Angeles, CA; Project Number: 122-HD118-WPD-NP/CA16-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 23, 2002.

Reason Waived: Additional time was needed for the sponsor to address a full seismic retrofit for the project and to finalize secondary funding sources.

Contact: Monique S. Love, Office of Housing Assistance and Grant Administration, Department of Housing and Urban Development, 451 Seventh Street, SW., Washington, DC 20410; telephone: (202) 708-3000, extension 2475.

• Regulation: 24 CFR 891.165.

Project/Activity: Obed Avenue, North Providence, RI; Project Number: 016-HD025/RI43-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 26, 2002.

Reason Waived: Additional time was needed to resolve zoning issues.

Contact: Frank Tolliver, Office of Housing Assistance and Grant Administration, Department of Housing and Urban Development, 451 Seventh Street, SW., Washington, DC 20410; telephone: (202) 708-3000, extension 3821.

• Regulation: 24 CFR 891.165.

Project/Activity: St. Boniface Gardens Inc., Pembroke Pines, Broward County, FL; Project Number: 066-EE074-/FL29-S991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 2, 2002.

Reason Waived: There was an unexpected delay in getting a plat recorded.

Contact: Sennai Cham, Office of Housing Assistance and Grant Administration, Department of Housing and Urban Development, 451 Seventh Street, SW., Washington, DC 20410; telephone: (202) 708-3000, extension 2610.

• Regulation: 24 CFR 891.205.

Project/Activity: Bridgeway Apartments, Phase II, Picayune, MS; Project Number: 065-HD025/MS26-Q001-002.

Nature of Requirement: Single-Purpose Owner. Section 891.205 requires that Section 202 project owners be single-purpose corporations.

Granted By: John C. Weicher, Assistant Secretary for Housing-Federal Housing Commissioner.

Date Granted: March 26, 2002.

Reason Waived: The project will be built adjacent to the sponsor's existing project and one owner-entity would promote greater service provision.

Contact: Rita Ross, Office of Housing Assistance and Grant Administration, Department of Housing and Urban Development, 451 Seventh Street, SW., Washington, DC 20410; telephone: (202) 708-3000, extension 2696.

• Regulation: 24 CFR 891.310(b)(1) and (b)(3).

Project/Activity: Bridgeway Apartments Phase II, Picayune, MS, Project Number: 065-HD025/MS26-Q001-002.

Nature of Requirement: HUD's regulation at 24 CFR 891.310(b)(1) and (b)(3) requires that all entrances, common areas, units to be occupied by resident staff, and amenities must be readily accessible to and usable by persons with disabilities.

Granted By: John C. Weicher, Assistant Secretary for Housing-Federal Housing Commissioner.

Date Granted: March 14, 2002.

Reason Waived: The project consists of two developments on non-contiguous sites; a new construction group home to serve eight persons with developmental disabilities and an independent living apartment project containing five units for persons with developmental disabilities. The group home will be fully accessible. As a result, more than 50 percent of the project's units would meet all accessibility requirements even though the majority of potential occupants do not require handicapped accessibility.

Contact: Alicia Anderson, Office of Housing Assistance and Grant Administration, Department of Housing and Urban Development, 451 Seventh Street, SW., Washington, DC 20410; telephone: (202) 708-3000, extension 5787.

• Regulation: 24 CFR 891.410(c).

Project Activity: Sunset Fields Apartments, Fennimore, WI; Project Number: 075-EE058-NP-WAH/L8.

Nature of Requirement: HUD regulations at 24 CFR 891.410(c) limit occupancy to very low-income elderly persons, i.e., households of one or more persons at least one of whom must be 62 years of age at the time of initial occupancy.

Granted by: John C. Weicher, Assistant Secretary for Housing-Federal Housing Commissioner.

Date Granted: March 26, 2002.

Reason Waived: The Milwaukee Multifamily Program Center requested waiver of this regulation due to the project's severe vacancy problems. If occupancy is not increased, revenue will be insufficient to meet the operating expenses of the project. The management agent has aggressively pursued advertising strategies to market units; however, in spite of his efforts vacancies still exist. This waiver will allow elderly and near elderly families who are at or over age 55 and low-income to apply for admission, thereby attempting to improve occupancy rates. This waiver is effective for one year from the date of approval.

Contact: Beverly J. Miller, Director, Office of Asset Management, Department of Housing and Urban Development, 451 Seventh Street, SW., Room 6160, Washington, DC 20410-7000; telephone: (202) 708-3730.

• Regulation: 24 CFR 891.410(c) and 24 CFR 5.110.

Project Activity: Birmingham Building Trades Towers (BBTT), Birmingham, AL; Project Number: 062-SH006.

Nature of Requirement: Section 891.410(c) limits occupancy to very low-income elderly persons, i.e., households of one or more persons at least one of whom must be 62 years of age at the time of initial occupancy. Section 5.110 relates to admission of families to projects for elderly or handicapped families that received reservations under Section 202 of the Housing Act of 1959 and housing assistance under Section 8 of the U.S. Housing Act of 1937.

Granted by: John C. Weicher, Assistant Secretary for Housing-Federal Housing Commissioner.

Date Granted: February 4, 2002.

Reason Waived: The Jacksonville Multifamily Hub requested an age waiver for the subject project because the current occupancy level will not support the project. Vacant units will be marketed to people between the ages of 55 and 62 with or without disabilities. Providing for a waiver of the elderly and handicapped requirements will allow the owner additional flexibility to rent up units. This waiver is in effect for one year from the date of approval.

Contact: Beverly J. Miller, Director, Office of Asset Management, Department of Housing and Urban Development, 451 Seventh Street, SW., Room 6160, Washington, DC 20410-7000; telephone: (202) 708-3730.

IV. Regulatory Waivers Granted by the Office of Multifamily Housing Assistance Restructuring (OMHAR)

For further information about the following waiver actions, please see the name of the contact person who immediately follows the description of the waiver granted.

• Regulation: 24 CFR 401.600.

Project/Activity: The following projects requested waivers to the 12-month limit at above-market rents (24 CFR 401.600):

FHA No. | Project name | State
10335072 | Cheyenne Villa | NE
02335298 | City Wide Apartments | MA
01635043 | Cross Street Apartments | RI
05435436 | Dillon Manor | SC
06135287 | Edgewood Housing I | GA
04832006 | Gardenview | MI
01257111 | Grant Development Associates | NY
05435451 | Kalmia Apartments | SC
01635051 | Medina Village Apartments | RI
04335223 | Nichols Townhomes | OH
04635578 | Northland Village Apartments | OH
07235066 | Orlando Northbrook Estates | IL
04335224 | Plumly Townhomes | OH
08335289 | Walnut Court Apartments | KY
01257106 | Williamsburg Apartments | NY
04335203 | Williamsburg Square | OH
01235200 | 675 Empire Boulevard | NY
04535094 | Clarksburg Towers | WV
01635053 | Curtis Arms Apartments | RI
01257083 | Howard Avenue Rehabilitation | NY
05935199 | Middle Creek Apartments | LA
06435034 | Shady Oaks Homes | LA
09335083 | The Elmwoods | MT

Nature of Requirement: Section 401.600 requires that projects be marked down to market rents within 12 months of their first expiration date after January 1, 1998. The intent of this provision is to ensure timely processing of requests for restructuring, and that the properties will not default on their FHA insured mortgages during the restructuring process.

Granted By: Barbara Chiapella, Acting Director, Office of Multifamily Housing Assistance Restructuring.

Date Granted: January 7, 2002.

Reasons Waived: The projects identified above were not assigned to the participating administrative entities (PAEs) in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone: (202) 708-0001.

• Regulation: 24 CFR 401.600.

Project/Activity: The following projects requested waivers to the 12-month limit at above-market rents (24 CFR 401.600):

FHA No. | Project name | State
05335320 | Academy Village Apartments | NC
03135195 | Aspen Stratford C | NJ
09335086 | Cedar View Apartments | MT
04844005 | Cranbrook Village Cooperative | MI
04335242 | Delaware Village | OH
11535199 | Falfurrias Village Apartments | TX
17135141 | Hifumi En Apartments | WA
10235120 | Horizon Plaza | KS
01257083 | Howard Avenue Rehabilitation | NY
00035193 | Hunter Pines East Apartments | DC
05935193 | Monterey Hills Apartments | LA
08335316 | Mountainview Estates | KY
08335333 | Pegasus 80 | KY
11535213 | Queens Village Apartments | TX
10135269 | Ridgeview Apartments | CO
10135263 | Sleeping Ute Apartments | CO
11835098 | Southwind Acres | OK
04535010 | Tri-City Housing Cooperation | WV
04335245 | Urbana Village North (Gwynne Village) | OH
12335106 | Westward Ho Apartments | AZ
11535187 | Woodland Creek Apartments | TX

Nature of Requirement: Section 401.600 requires that projects be marked down to market rents within 12 months of their first expiration date after January 1, 1998. The intent of this provision is to ensure timely processing of requests for restructuring, and that the properties will not default on their FHA insured mortgages during the restructuring process.

Granted By: Barbara Chiapella, Acting Director, Office of Multifamily Housing Assistance Restructuring.

Date Granted: February 15, 2002.

Reasons Waived: The projects identified above were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone: (202) 708-0001.

• Regulation: 24 CFR 401.600.

Project/Activity: The following projects requested waivers to the 12-month limit at above-market rents (24 CFR 401.600):

FHA No. | Project name | State
05335320 | Academy Village Apartments | NC
01257128 | Andrews Plaza | NY
03135194 | Aspen Stratford B | NJ
04335257 | Calumet/Horizon | OH
06157001 | Capitol Avenue School | GA
04844005 | Cranbrook Village Cooperative | MI
12135677 | Eureka Central Residence | CA
01257101 | Grand Concourse Phase I | NY
11535221 | Los Ebanos Apartments | TX
08335316 | Mountainview Estates | KY
05135329 | North Fork Manor Apartments | VA
14311047 | Pioneer Park Plaza Apartments | CA
05235308 | Upton Courts | MD
04235294 | Westland Gardens | OH
12735313 | Willapa Landing Apartments | WA

Nature of Requirement: Section 401.600 requires that projects be marked down to market rents within 12 months of their first expiration date after January 1, 1998. The intent of this provision is to ensure timely processing of requests for restructuring, and that the properties will not default on their FHA insured mortgages during the restructuring process.

Granted By: John C. Weicher, Assistant Secretary for Housing-Federal Housing Commissioner.

Date Granted: March 6, 2002.

Reasons Waived: The projects identified above were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone: (202) 708-0001.

V. Regulatory Waivers Granted by the Office of Public and Indian Housing

For further information about the following public housing drug elimination program (PHDEP) waiver actions, please see the name of the contact person immediately following the description of the waiver granted.

• Regulation: 24 CFR 761.30(b)(2).

Project/Activity: Indianapolis Housing Authority (IHA), Indianapolis, IN; IN36DEP0170197.

Nature of Requirement: Section 761.30(b)(2) provides that terms of the grant agreement may not exceed 12 months for the Assisted Housing program, and 24 months for PHDEP. In accordance with this section, HUD may grant an extension of the grant term in response to a written request for an extension stating the need for the extension and indicating the additional time required.

Granted By: Michael Liu, Assistant Secretary for Public and Indian Housing.

Date Granted: February 13, 2002.

Reason Waived: The IHA experienced extenuating circumstances relating to the PHDEP grant's eligible activities, which HUD was attempting to resolve. This required an extended period of time to complete an assessment of grant activities and costs, submit vouchers for payment and process the necessary documents for close-out of the grant. The field office made a determination that the costs were allowable expenses and eligible for payment.

Contact: Sonia L. Burgos, Director, Community Safety and Conservation Division, Office of Public and Assisted Housing Delivery, Department of Housing and Urban Development, 451 Seventh Street, SW., Washington, DC 20410; telephone: (202) 708-1197, extension 4237.

• Regulation: 24 CFR 761.30(b)(2).

Project/Activity: Hampton Redevelopment Housing Authority, Hampton, VA; VA36DEP017099.

Nature of Requirement: Section 761.30(b)(2) provides that terms of the grant agreement may not exceed 12 months for the assisted housing program, and 24 months for the public housing program. In accordance with this section, HUD may grant an extension of the grant term in response to a written request stating the need for the extension and indicating the additional time required.

Granted By: Michael Liu, Assistant Secretary for Public and Indian Housing.

Date Granted: February 25, 2002.

Reason Waived: The waiver was granted to allow the housing authority to proceed with implementation of its planned PHDEP grant activities, enough time to draw down the remaining grant funds from the Line of Credit Control System (LOCCS), and time to close out the grant.

Contact: Sonia L. Burgos, Director, Community Safety and Conservation Division, Office of Public and Assisted Housing Delivery, Department of Housing and Urban Development, 451 Seventh Street, SW., Washington, DC 20410; telephone: (202) 708-1197, extension 4237.

• Regulation: 24 CFR 761.30(b)(2).

Project/Activity: Wilmington Housing Authority, Wilmington, DE; DE26DEP0010197.

Nature of Requirement: Section 761.30(b)(2) provides that terms of the grant agreement may not exceed 12 months for the assisted housing program, and 24 months for the public housing program. In accordance with this section, HUD may grant an extension of the grant term in response to a written request stating the need for the extension and indicating the additional time required.

Granted By: Michael Liu, Assistant Secretary for Public and Indian Housing.

Date Granted: March 5, 2002.

Reason Waived: The waiver was granted to allow the housing authority to use the balance of the PHDEP grant for reimbursement for services rendered and to cover grant related administrative expenses.

Contact: Sonia L. Burgos, Director, Community Safety and Conservation Division, Office of Public and Assisted Housing Delivery, Department of Housing and Urban Development, 451 Seventh Street, SW., Washington, DC 20410; telephone: (202) 708-1197, extension 4237.

• Regulation: 24 CFR 761.30(b)(2).

Project/Activity: Chester County Housing Authority, Chester County, PA; PA01DEP0460198.

Nature of Requirement: Section 761.30(b)(2) provides that terms of the grant agreement may not exceed 12 months for the assisted housing program, and 24 months for the public housing program. In accordance with this section, HUD may grant an extension of the grant term in response to a written request stating the need for the extension and indicating the additional time required.

Granted By: Michael Liu, Assistant Secretary for Public and Indian Housing.

Date Granted: March 11, 2002.

Reason Waived: The Chester County Housing Authority felt that they should not move forward with these programs under the PHDEP until a determination could be made of the authority's financial situation. The Chester County Housing Authority ceased any planning for programmatic activities such as after school care, adult skills training and the purchase of equipment requiring the full procurement process.

Contact: Sonia L. Burgos, Director, Community Safety and Conservation Division, Office of Public and Assisted Housing Delivery, Department of Housing and Urban Development, 451 Seventh Street, SW., Washington, DC 20410; telephone: (202) 708-1197, extension 4237.

• Regulation: 24 CFR 761.30(b)(2).

Project/Activity: Chester County Housing Authority, Chester County, PA; PA01DEP0460197.

Nature of Requirement: Section 761.30(b)(2) provides that terms of the grant agreement may not exceed 12 months for the assisted housing program, and 24 months for the public housing program. In accordance with this section, HUD may grant an extension of the grant term in response to a written request stating the need for the extension and indicating the additional time required.

Granted By: Michael Liu, Assistant Secretary for Public and Indian Housing.

Date Granted: March 11, 2002.

Reason Waived: The Chester County Housing Authority felt that they should not move forward with their programs under the PHDEP grant until a determination was made of the authority's financial situation. The Chester County Housing Authority ceased any planning for programmatic activities. An operational assessment was completed and the housing authority was granted the waiver to proceed with the planning and implementation of its grant activities.

Contact: Sonia L. Burgos, Director, Community Safety and Conservation Division, Office of Public and Assisted Housing Delivery, Department of Housing and Urban Development, 451 Seventh Street, SW., Washington, DC 20410; telephone: (202) 708-1197, extension 4237.

• Regulation: 24 CFR 761.30(b)(2).

Project/Activity: Charleston Housing Authority, Charleston, WV; WV15DEP0010197.

Nature of Requirement: Section 761.30(b)(2) provides that terms of the grant agreement may not exceed 12 months for the assisted housing program, and 24 months for the public housing program. In accordance with this section, HUD may grant an extension of the grant term in response to a written request stating the need for the extension and indicating the additional time required.

Granted By: Michael Liu, Assistant Secretary for Public and Indian Housing.

Date Granted: March 14, 2002.

Reason Waived: The Charleston Housing Authority requested a time extension in order to draw down the remaining grant funds to pay vendors that have provided services for the PHDEP activities, and sufficient time to close out the grant.

Contact: Sonia L. Burgos, Director, Community Safety and Conservation Division, Office of Public and Assisted Housing Delivery, Department of Housing and Urban Development, 451 Seventh Street, SW., Washington, DC 20410; telephone: (202) 708-1197, extension 4237.

• Regulation: 24 CFR 982.306(d).

Project/Activity: Lincoln County Public Housing Agency, Bowling Green, MO; Housing Choice Voucher Program.

Nature of Requirement: Section 982.306(d) limits the circumstances under which a public housing agency may approve the leasing of a unit if the owner of the unit is a close relative of the family.

Granted By: Michael Liu, Assistant Secretary for Public and Indian Housing.

Date Granted: February 21, 2002.

Reason Waived: Approval of the waiver permitted a large family to lease a unit from a relative because of the unavailability of suitable vacant rental housing in the public housing agency's jurisdiction.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 982.503(c)(2)(ii).

Project/Activity: City of Tucson Community Services Department, Tucson, AZ; Housing Choice Voucher Program.

Nature of Requirement: Section 982.503(a)(2)(ii) provides that the HUD field office may approve an exception payment standard between 110% and 120% of the published fair market rent if required as a reasonable accommodation for a family that includes a person with disabilities.

Granted By: Michael Liu, Assistant Secretary for Public and Indian Housing.

Date Granted: January 8, 2002.

Reason Waived: Approval of the waiver to allow the field office to approve an exception payment standard in excess of 120% made it possible for a family that includes a person with disabilities to lease suitable housing under the program.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 982.503(c)(2)(ii).

Project/Activity: Housing Authority of the County of Los Angeles, Monterey Park, CA; Housing Choice Voucher Program.

Nature of Requirement: Section 982.503(c)(2)(ii) provides that the HUD field office may approve an exception payment standard between 110% and 120% of the published fair market rent if required as a reasonable accommodation for a family that includes a person with disabilities.

Granted By: Michael Liu, Assistant Secretary for Public and Indian Housing.

Date Granted: January 15, 2002.

Reason Waived: Approval of the waiver to allow the field office to approve an exception payment standard in excess of 120% made it possible for a family that includes a person with disabilities to remain in their current unit. It would have been a hardship on this family to seek alternative housing due to current health issues.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51.

Project/Activity: The Virgin Islands Housing Authority (VIHA), St. Thomas, VI; Project-based Assistance (PBA) program. VIHA requested a waiver to permit it to attach PBA to all 80 units at Croixville Apartments. Croixville Apartments was selected to undergo rehabilitation under the Moderate Rehabilitation (Mod Rehab) Program over twelve years ago. Prior to the execution of a housing assistance payments contract under the Mod Rehab Program, the project suffered substantial damage as a result of Hurricane Hugo. The units have stood vacant and unsuitable for occupancy since that time. The VIHA has acquired the property and has selected Michaels Development Company, Inc. to accomplish the rehabilitation of the Croixville Apartments.

Nature of Requirement: Section 983.51 requires HUD review and approval of a written selection policy and advertisement for the competitive selection of units to receive project-based assistance.

Granted By: Michael Liu, Assistant Secretary for Public and Indian Housing.

Date Granted: March 6, 2002.

Reason Waived: Approval of the waiver will permit VIHA to renovate Croixville Apartments and maintain its original intended use as an affordable housing development for low-income families.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: Housing Authority of the County of Chester (HACC), West Chester, PA; PBA program. HACC requested a waiver to permit it to attach PBA to all 33 units of a PHA-owned, mixed financed senior citizen facility, Honey Brook. The development plan for this facility was already submitted to a tax credit competition by the Pennsylvania Housing Finance Authority unit.

Nature of Requirement: Section 983.51(a) and (b) requires HUD review and approval of a written selection policy and advertisement for the competitive selection of units to receive project-based assistance.

Granted By: Michael Liu, Assistant Secretary for Public and Indian Housing.

Date Granted: February 5, 2002.

Reason Waived: Approval of the waivers will provide affordable rental housing units for very low-income senior citizens.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: Lowell Housing Authority (LHA), Lowell, MA; PBA program. LHA requested a waiver to permit it to select owner proposals from the Residents First Development Corporation (RFDC) and Winn Development (owner of Princeton Village) to provide PBA to 45 duplex units in a 180-unit development of proposed new construction and 37 units in a 151-unit project (Princeton Village). Both developments are located in state-designated revitalization areas. RFDC is a non-profit affiliate of the LHA and Princeton Village was competitively selected for Low Income Tax Credits.

Nature of Requirement: Section 983.51 (a) and (b) requires HUD review and approval of a written selection policy and advertisement for the competitive selection of units to receive project-based assistance.

Granted By: Michael Liu, Assistant Secretary for Public and Indian Housing.

Date Granted: March 5, 2002.

Reason Waived: Approval of the waivers will permit LHA to support the City of Lowell's revitalization efforts. The City of Lowell and LHA want to ensure that low-income people maintain access to housing in the revitalization areas as the areas are redeveloped to attract residents from higher income ranges.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: Housing Authority of the City of Aiken (HACA), Aiken, SC; PBA program. HACA requested a waiver to permit it to select owner proposals from the New Labor Housing and Economic Development Corporation (a non-profit affiliate of HACA) to provide PBA to 27 proposed single-family units that are part of a 44-unit project, Busch Crossing. The New Labor Housing and Economic Development Corporation was competitively awarded low-income housing tax credits by the South Carolina State Housing Finance and Development Authority. Busch Crossing will replace 60 condemned public housing units that were demolished.

Nature of Requirement: Section 983.51(a) and (b) requires HUD review and approval of a written selection policy and advertisement for the competitive selection of units to receive project-based assistance.

Granted By: Michael Liu, Assistant Secretary for Public and Indian Housing.

Date Granted: March 5, 2002.

Reason Waived: Approval of the waivers will provide for new development of affordable rental housing units for very low-income families.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: The Tampa Housing Authority (THA), Tampa, FL; PBA program. THA requested a waiver to permit it to provide PBA to all of the units of a HUD-owned 63-unit assisted living facility Palm Terrace. The THA intends to purchase the facility through the Atlanta Multifamily Disposition Office.

Nature of Requirement: Section 983.51(a) and (b) requires HUD review and approval of a written selection policy and advertisement for the competitive selection of units to receive project-based assistance.

Granted By: Michael Liu, Assistant Secretary for Public and Indian Housing.

Date Granted: March 7, 2002.

Reason Waived: Approval of the waivers meets the Department's goal of housing elders in assisted living facilities with vouchers; and the units would be affordable to voucher program participants in need of this type of facility since the THA will own and manage the units.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: Housing Authority of the County of Chester (HACC), West Chester, PA; PBA program. HACC and its partner, The Community Builders, Inc., who will be the general partner of the owner of the project, Downtown Revival Limited Partnership requested a waiver to permit it to attach PBA to ten out of 22 general occupancy units in six contiguous revitalized commercial buildings in downtown Coatesville, Pennsylvania. The project, Apartments-Over-Commercial Phase, is part of a HOPE VI revitalization plan to replace 192 demolished Oak Street and Woodland Parkway public housing units. This project has already been competitively awarded HOPE VI grant funds by the Department in 1997 as well as low-income tax credits by the Pennsylvania Housing Finance Agency.

Nature of Requirement: Section 983.51(a) and (b) requires HUD review and approval of a written selection policy and advertisement for the competitive selection of units to receive project-based assistance.

Granted By: Michael Liu, Assistant Secretary for Public and Indian Housing.

Date Granted: March 12, 2002.

Reason Waived: Approval of the waivers will provide affordable rental housing units for low-income families.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: San Francisco Housing Authority (SFHA), San Francisco, CA; PBA program. SFHA requested a waiver to permit it to attach PBA assistance to 119 units out of 341 replacement units in a HOPE VI development, the North Beach Redevelopment Project. The project will be owned and managed by North Beach Development Associates, LLC (NBDA). The SFHA will continue to own the property upon which the project will be developed. NBDA was competitively awarded HOPE VI funds by the Department to demolish and revitalize the North Beach Place public housing project.

Nature of Requirement: Section 983.51(a) and (b) requires HUD review and approval of a written selection policy and advertisement for the competitive selection of units to receive project-based assistance.

Granted By: Michael Liu, Assistant Secretary for Public and Indian Housing.

Date Granted: March 13, 2002.

Reason Waived: Approval of the waivers will provide affordable rental housing units for low-income families.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 1000.214.

Project/Activity: The Native Village of Pilot Station, AK, requested a waiver of the deadline for submission of the Indian Housing Plan.

Nature of Requirement: Section 1000.214 provides that recipients must initially send the Indian Housing Plan (IHP) to the Area Office of Native American Programs (ONAP) no later than July 1 of each year. Grant funds cannot be provided until the plan is submitted and determined to be in compliance with section 102 of the Native American Housing Assistance and Self-Determination Act (NAHASDA) of 1996.

Granted By: Michael Liu, Assistant Secretary, Office of Public and Indian Housing.

Date Granted: March 15, 2002.

Reason Waived: The Native Village of Pilot Station initially designated the Calista Corporation to be its tribally designated housing entity (TDHE) for Fiscal Year (FY) 2001 Indian Housing Block Grant (IHBG) funding. The Calista Corporation submitted an IHP for FY 2001 funds, including the Native Village of Pilot Station. After reviewing the IHP of Calista Corporation, ONAP made the determination that Calista Corporation, as a tribe, cannot be a TDHE for the Native Village of Pilot Station or any other tribes as defined by NAHASDA. On August 24, 2001, the Calista Corporation revised their IHP and the Native Village of Pilot Station was not included. Since the Native Village of Pilot Station can be a recipient of IHBG funds, they requested to submit their own IHP after the regulatory due date for FY 2001 funds.

Contact: Deborah Lalancette, Director, Grants Management, Denver Program ONAP, Department of Housing and Urban Development, 1999 Broadway, Suite 3390, Denver, CO 80202; telephone: (303) 675-1600, extension 3325.

• Regulation: 24 CFR 1000.312.

Project/Activity: The Housing Authority of the Creek Nation of Oklahoma requested a waiver to allow units to be counted as formula assisted stock.

Nature of Requirement: Section 1000.312 requires that only units owned or operated pursuant to an Annual Contributions Contract (ACC) be included in the Formula Current Assisted Stock (FCAS).

Granted By: Michael Liu, Assistant Secretary, Office of Public and Indian Housing.

Date Granted: January 24, 2002.

Reason Waived: The housing authority determined that structural deficiencies found in foundations were extreme and posed a serious threat to the health and safety of the residents. In addition, the Tribe has agreements with lessees and homebuyers for these units that would continue to apply once the units are demolished and replaced. These agreements are predicated upon subsidy from the Department. Continuation of subsidy is necessary for the Tribe to uphold these agreements.

Contact: Deborah Lalancette, Director, Grants Management, Denver Program ONAP, Department of Housing and Urban Development, 1999 Broadway, Suite 3390, Denver, CO 80202; telephone: (303) 675-1600, extension 3325.

[FR Doc. 02-21487 Filed 8-22-02; 8:45 am]

BILLING CODE 4210-32-P